DEPARTMENT OF THE INTERIOR

Fish and Wildlife Service

[FWS-R4-R-2008-N0152; 40136-1265-0000-S3]

Clarks River National Wildlife Refuge, Marshall, McCracken, and Graves Counties, KY

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Clarks River National Wildlife Refuge. We provide this notice in compliance with our CCP policy to advise other agencies, Tribes, and the public of our intentions, and to obtain suggestions and information on the scope of issues to consider in the planning process.

DATES: To ensure consideration, we must receive your written comments by October 14, 2008. An open house meeting will be held during the scoping phase of the CCP development process. The date, time, and place for the meeting will be announced in the local media.

ADDRESSES: Address comments, questions, and requests for more information to: Tina Chouinard, Natural Resource Planner, Fish and Wildlife Service, 6772 Hwy 76 South, Stanton, TN 38069.

FOR FURTHER INFORMATION CONTACT: Tina Chouinard; Telephone: 731/780-8208; Fax: 731/772-7839; E-mail: tina_chouinard@fws.gov.

SUPPLEMENTARY INFORMATION:

Introduction

With this notice, we initiate our process for developing a CCP for Clarks River National Wildlife Refuge in Marshall, McCracken, and Graves Counties, Kentucky.

This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Clarks River National Wildlife Refuge. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

On June 19, 1997, the Clarks River National Wildlife Refuge was established under the “Emergency Wetland Resources Act of 1986 (100 Stat. 3582-91.)” The purposes are “* * * the conservation of the wetlands of the Nation in order to maintain the public benefits they provide and to help fulfill international obligations contained in various migratory bird treaties and conventions * * *” 16 U.S.C. 3901(b), 100 Stat. 3583.

The refuge was first identified as a high priority site for protection in 1978 by the Service's bottomland hardwood conservation program. In 1991, the Kentucky Department of Fish and Wildlife Resources asked the Service to consider the site for protection as a unit of the National Wildlife Refuge System. The refuge currently consists of approximately 8,500 acres, with an approved acquisition boundary of approximately 18,000 acres that extends along the East Fork of the Clarks River from just south of Benton, Kentucky, northwest to within five miles of the city of Paducah, Kentucky. The office/visitor center and maintenance facilities are located on the refuge in Benton, Kentucky. The most common public use activities on the refuge consist of hunting, fishing, wildlife observation, wildlife photography, and hiking. Environmental education is also a significant use on the refuge.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: July 1, 2008.
Cynthia K. Dohner,
Acting Regional Director.

[FR Doc. E8-20086 Filed 8-28-08; 8:45 am]

BILLING CODE 4310-55-P